DEPARTMENT OF HEALTH AND HUMAN SERVICES

Request for Information (RFI): To Inform the Development of the 2026-2030 National HIV/AIDS Strategy and the National Strategic Plans for Sexually Transmitted Infections, Vaccines, and Viral Hepatitis

AGENCY: Office of Infectious Disease and HIV/AIDS Policy, Office of the Assistant Secretary for Health, Office of the Secretary, Department of Health and Human Services.

ACTION: Notice.

SUMMARY: Through this Request for Information (RFI), the Office of Infectious Disease and HIV/AIDS Policy (OIDP) in the Office of the Assistant Secretary for Health (OASH) in the Office of the Secretary, Department of Health and Human Services (HHS), invites feedback from Federal, State, Tribal, territorial, and local governments; community-based organizations and faith-based organizations; Urban Indian Organizations; health plans and payers; health care providers, and other health-related and social services organizations; private-sector entities; researchers and academic institutions; people living with and who experience risk for disease; and other interested constituents on Strategic Plans to serve as national roadmaps to guide efforts to address HIV, sexually transmitted infections (STI), and viral hepatitis, and to improve and enhance the development and use of vaccines in the United States.

DATES: To be assured consideration, comments must be received at the addresses provided below, no later than 5:00 p.m. ET on December 6, 2024.

ADDRESSES: Submissions must be submitted electronically via the following website: https://app.smartsheetgov.com/b/form/68aa1bd9c54b42829f99e85cc4ab1e82.

FOR FURTHER INFORMATION CONTACT: Questions about this RFI should be directed to Nathan Fecik; Phone: 202-795-7616; Email: Syndemics@hhs.gov.

SUPPLEMENTARY INFORMATION: OIDP requests feedback on the development of the following (collectively referred to as the Strategic Plans):

• National HIV/AIDS Strategy for the United States: 2026-2030 (NHAS)

• Sexually Transmitted Infections National Strategic Plan for the United States: 2026-2030 (STI Plan)

• Vaccines National Strategic Plan for the United States: 2026-2030 (Vaccines Plan)

• Viral Hepatitis National Strategic Plan for the United States 2026-2030 (Viral Hepatitis Plan)

The National HIV/AIDS Strategy for the United States: 2022-2025 (https://files.hiv.gov/s3fs-public/NHAS-2022-2025.pdf), the Sexually Transmitted Infections National Strategic Plan for the United States: 2021-2025 (https://www.hhs.gov/sites/default/files/STI-National-Strategic-Plan-2021-2025.pdf), the Vaccines National Strategic Plan: 2021-2025 (https://www.hhs.gov/sites/default/files/HHS-Vaccines-Report.pdf), and the Viral Hepatitis National Strategic Plan for the United States: A Roadmap to Elimination: 2021-2025 (https://www.hhs.gov/sites/default/files/Viral-Hepatitis-National-Strategic-Plan-2021-2025.pdf) expire at the end of calendar year 2025.

OIDP, in collaboration with the White House Office of National AIDS Policy (focused specifically on the NHAS) and Federal partners, is leading work to develop the next iteration of these interrelated Strategic Plans through 2030. As the next NHAS will be developed in parallel with the three national strategic plans, OIDP is collecting information for the 2026-2030 National HIV/AIDS Strategy at the request of the White House Office of National AIDS Policy. OIDP invites community input as people have served as the cornerstone for developing the Strategic Plans since their inception.

Background: The Strategic Plans serve as national roadmaps for a broad range of constituents to help prevent, diagnose, treat, and cure disease, improve health outcomes, reduce health disparities and inequities, and advance research and technology. The plans include a common vision, overarching goals, objectives, and strategies, and indicators to measure national progress toward established targets.

The development of the next iteration of the Strategic Plans will serve as an opportunity to incorporate the latest epidemiological data; review progress toward achieving national strategic plan goals; center the needs of populations disproportionately affected; address gaps identified in existing Strategic Plans; integrate the latest scientific advances; prioritize the most effective strategies for achieving national goals; and further emphasize the need to implement integrated syndemic approaches (https://www.hiv.gov/blog/defining-the-term-syndemic) that cut across each of the Strategic Plans and address common root causes of infectious diseases.

OIDP, in collaboration with Federal partners, is updating the Strategic Plans at the same time because these conditions often disproportionately affect similar populations and may share common root causes. The Vaccine National Strategic Plan is included in this coordinated process to elevate the critical role vaccines can serve as a key intervention to prevent infectious disease, including STIs and viral hepatitis, and to disrupt syndemics. By updating the Strategic Plans at the same time, OIDP aims to identify, leverage, and maximize Federal and other resources to achieve health equity and reduce related health disparities.

OIDP coordinates the development, implementation, and monitoring of the Strategic Plans in collaboration with Federal partners.

Information Requested: Anyone can submit written responses to the questions of interest listed at the following website: https://app.smartsheetgov.com/b/form/68aa1bd9c54b42829f99e85cc4ab1e82.

This feedback will inform the 2026-2030 Strategic Plans. Please note that responses have specified word limits. Please provide evidence-based justification where applicable. Professional societies, advocacy organizations, and other groups are encouraged to submit a single collective response that reflects the views of their membership.

Responses to this RFI Notice are voluntary and may be made public by HHS. The submitted information will be reviewed by HHS staff and may be made available to the public, along with the submitting individual's name, email address, and demographic information consisting of the submitter's location, affiliated organization, role, and (if provided) title and nature of comments. Submitted information will not be considered confidential, so do not include proprietary, classified, confidential, personal, or other sensitive information in your response. This request is for information and planning purposes and should not be construed as a solicitation or as an obligation of the Federal Government or the HHS. No awards will be made based on responses to this RFI. The information submitted will be analyzed and may be used in reports or presentations. Those who respond are advised that the HHS is under no obligation to acknowledge receipt of your comments or provide feedback on your submission. The HHS and the government reserve the right to use any non-proprietary technical information in any future solicitation(s).

Authority: 42 U.S.C. 202 and 42 U.S.C. 207.

B. Kaye Hayes,
Deputy Assistant Secretary for Infectious Disease; Director, Office of Infectious Disease and HIV/AIDS Policy.

[FR Doc. 2024-22948 Filed 10-4-24; 8:45 am]

BILLING CODE P